DEPARTMENT OF HEALTH AND HUMAN SERVICES

Food and Drug Administration

[Docket No. FDA-2014-N-0007]

Biosimilar User Fee Rates for Fiscal Year 2015; Correction

AGENCY: Food and Drug Administration, HHS

ACTION: Notice; correction.

SUMMARY: The Food and Drug Administration is correcting a notice entitled “Biosimilar User Fee Rates for Fiscal Year 2015” that appeared in the Federal Register of August 1, 2014 (79 FR 44795). The document announced the rates for biosimilar user fees for fiscal year 2015. The document was published with the incorrect docket number. This document corrects that error.

FOR FURTHER INFORMATION CONTACT: Lisa Granger, Office of Policy, Food and Administration, 10990 New Hampshire Ave., Bldg. 32, Rm. 3330, Silver Spring, MD 20993-0002, 301-796-9115.

SUPPLEMENTARY INFORMATION: In the Federal Register of Friday, August 1, 2014, in FR Doc. 2014-18112, the following correction is made:

1. On page 44795, in the third column, in the Docket No. heading, “[Docket No. FDA-2013-N-0007]” is corrected to read “[Docket No. FDA-2014-N-0007]”.

Dated: August 21, 2014.
Peter Lurie,
Associate Commissioner for Policy and Planning.

[FR Doc. 2014-20332 Filed 8-26-14; 8:45 am]

BILLING CODE 4164-01-P